DEPARTMENT OF JUSTICE

Notice of Lodging of Consent Decree Under the Comprehensive Environmental Response Compensation and Liability Act

Notice is hereby given that on January 8, 2008, a proposed Consent Decree (“Taylor Borough Consent Decree”) in United States v. City of Scranton, Civil Action No. CV-86-1591 was lodged with the United States District Court for the Middle District of Pennsylvania.

On November 30, 1995, the United States obtained a judgment of $1,838,579.70 plus interest for past costs against the City of Scranton (“Scranton” or the “City”) and others pursuant to Section 107 of the Comprehensive Environmental Response, Compensation and Liability Act (“CERCLA”), 42 U.S.C. 9607 for the City's involvement with The Taylor Borough Superfund Site (“Site”) in Taylor Borough, Pennsylvania. The judgement was reduced to $1,648,000 plus interest after one of the other liable parties paid $190,778 to EPA in settlement. The City of Scranton has agreed to pay $250,000 over 5 years (plus interest) and take over operation and maintenance at the site to resolve the United States' outstanding judgment. Among other things, the City of Scranton's agreement to assume operation and maintenance responsibilities at the Site requires them to maintain the landscape at the Site and conduct periodic backfilling and regrading as necessary.

The Department of Justice will receive for a period of thirty (30) days from the date of this publication comments relating to the Taylor Borough Consent Decree. Comments should be addressed to the Assistant Attorney General, Environment and Natural Resources Division, and either e-mailed to pubcomment-ess.enrd@usdoj.gov or mailed to P.O. Box 7611, U.S. Department of Justice, Washington, DC 20044-7611, and should refer to United States v. City of Scranton, D.J. Ref. 90-11-3-43/1.

The Taylor Borough Consent Decree may be examined at the Office of the United State Attorney, 235 N. Washington Ave., Suite 311, Scranton, PA 18503 and at U.S. EPA Region III, 1650 Arch Street, Philadelphia, Pennsylvania 19103-2029. During the public comment period, the Taylor Borough Consent Decree may also be examined on the following Department of Justice Web site, http://www.usdoj.gov/enrd/Consent_Decrees.html. A copy of the Taylor Borough Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $38.50 (25 cents per page reproduction cost) payable to the U.S. Treasury or, if by e-mail or fax, forward a check in that amount to the Consent Decree Library at the stated address. In requesting a copy exclusive of exhibits and defendants' signatures, please enclose a check in the amount of $16.50 (25 cents per page reproduction cost) payable to the U.S. Treasury.

Robert Brook,
Assistant Section Chief, Environmental Enforcement Section, Environment and Natural Resources Division.

[FR Doc. 08-409 Filed 1-30-08; 8:45 am]

BILLING CODE 4410-15-M